NATIONAL SCIENCE FOUNDATION

Notice of Permits Issued Under the Antarctic Conservation Act of 1978

AGENCY: National Science Foundation.

ACTION: Notice of permit issued under the Antarctic Conservation Act of 1978, Public Law 95-541.

SUMMARY: The National Science Foundation (NSF) is required to publish notice of permits issued under the Antarctic Conservation Act of 1978. This is the required notice.

FOR FURTHER INFORMATION CONTACT: Nadene G. Kennedy, Permit Office, Office of Polar Programs, Rm. 755, National Science Foundation, 4201 Wilson Boulevard, Arlington, VA 22230.

SUPPLEMENTARY INFORMATION: On February 9 and February 13, 2012 respectively, the National Science Foundation published a notice in the Federal Register of permit applications received. The permits were issued on March 16, 2012 to:

Robert A. Blanchette, Permit No. 2012-013;

H. William Detrich, III, Permit No. 2012-014;

Laurie Connell, Permit No. 2012-015.

Nadene G. Kennedy,
Permit Officer.

[FR Doc. 2012-6802 Filed 3-20-12; 8:45 am]

BILLING CODE 7555-01-P